DEPARTMENT OF LABOR

Office of the Secretary

Submission for OMB Review; Comment Request

September 21, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Financial and Program Reporting and Performance Standards for Indian and Native American Programs Under Title I, Section 166 of the workforce Investment Act.

OMB Number: 1205-0422.

Frequency: Quarterly, Semi-annually and Annually.

Affected Public: State, Local, or Tribal Government; Not-for-profit institutions.

Burden Summary:

Required section 166 activity (comprehensive services) | DINAP Form # | Number of respondents | Responses per year | Total responses | Hours per response | Total burden hrs
Plan Narrative |  | 145 | 1 | 145 | 12 | 1,740
Recordkeeping |  | 145 |  | 17,000 | 3 | 51,000
Participant Report | ETA 9084 | 145 | 2 | 290 | 9.67 | 2,804
Totals |  | 145 | 3 | 17,435 | 24.67 | 55,544

Required section 166 activity (supplemental youth services) | DINAP Form # | Number of respondents | Responses per year | Total responses | Hours per response | Total burden hrs
Plan Narrative |  | 105 | 1 | 105 | 6 | 630
Recordkeeping |  | 105 |  | 8,000 | 2 | 16,000
Participant Report | ETA 9085 | 105 | 2 | 210 | 9.67 | 2,031
Totals |  | 105 | 3 | 8,315 | 17.67 | 18,661

Required section 166 activity (comprehensive services) (supplemental youth services) | DINAP Form # | Number of respondents | Responses per year | Total responses | Hours per response | Total burden hrs
Financial Report | ETA 9080 | CSP-145 SYS-105 | 4 4 | 580 420 | 9.67 9.67 | 5,608 4,061
Totals |  | 250 | 4 | 1,000 | 24.67 | 9,669

Total Burden Hours: 83,874.

Description: This is an extension of two currently-approved collections [1205-0422 and 1205-0423] of participant and financial information relating to the operation of employment and training programs for Indians and Native Americans under title I, section 166 of the Workforce Investment Act (WIA). It also contains the basis of the current performance standards system for WIA section 166 grantees. The burden estimates for this collection include the Supplemental Youth Services Program and the Comprehensive Services Program authorized under section 166, as well as financial reporting requirements for both funds sources. Burden estimates do not include those tribes currently participating in the demonstration under Public Law 102-477.

Ira L. Mills,
Departmental Clearance Officer.

[FR Doc. 04-21655 Filed 9-27-04; 8:45 am]

BILLING CODE 4510-30-P